DEPARTMENT OF COMMERCE

Foreign-Trade Zones Board

[S-32-2020]

Approval of Subzone Status; Waters Technologies Corporation; Milford, Massachusetts

On February 18, 2020, the Executive Secretary of the Foreign-Trade Zones (FTZ) Board docketed an application submitted by the Massachusetts Port Authority, grantee of FTZ 27, requesting subzone status subject to the existing activation limit of FTZ 27, on behalf of Waters Technologies Corporation, in Milford, Massachusetts.

The application was processed in accordance with the FTZ Act and Regulations, including notice in the Federal Register inviting public comment (85 FR 11048-11049, February 26, 2020). The FTZ staff examiner reviewed the application and determined that it meets the criteria for approval. Pursuant to the authority delegated to the FTZ Board Executive Secretary (15 CFR Sec. 400.36(f)), the application to establish Subzone 27P was approved on April 13, 2020, subject to the FTZ Act and the Board's regulations, including Section 400.13, and further subject to FTZ 27's 129-acre activation limit.

Dated: April 13, 2020.
Andrew McGilvray,
Executive Secretary.

[FR Doc. 2020-08012 Filed 4-15-20; 8:45 am]

BILLING CODE 3510-DS-P